DEPARTMENT OF HOMELAND SECURITY

Agency Information Collection Activities: Actively Exploited Vulnerability Submission Form

AGENCY: Cybersecurity and Infrastructure Security Agency (CISA), Department of Homeland Security (DHS).

ACTION: 30-Day notice and request for comments; new collection request and OMB control number is 1670-NEW.

SUMMARY: The Vulnerability Management (VM) within Cybersecurity and Infrastructure Security Agency (CISA) submits the following Information Collection Request (ICR) to the Office of Management and Budget (OMB) for review. CISA previously published this ICR in the Federal Register on February 29, 2024, for a 60-day public comment period. One comment was received by CISA. The purpose of this notice is to allow an additional 30 days for public comments.

DATES: Comments are encouraged and will be accepted until September 19, 2025.

Submissions received after the deadline for receiving comments may not be considered.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: Christopher Murray, 202-984-0874, christopher.murray@mail.cisa.dhs.gov.

SUPPLEMENTARY INFORMATION: The Cybersecurity and Infrastructure Security Agency (CISA) operates the federal information security incident center. Through this center, CISA provides technical assistance and guidance on detecting and handling security Vulnerability Disclosures, compile and analyze incident information that threatens information security, inform agencies of current and potential threats and vulnerabilities, and provide intelligence or other information about cyber threats, vulnerabilities, and incidents to agencies. 44 U.S.C. 3556(a), see also 6 U.S.C. 659(c) (providing for cybersecurity services for both Federal Government and non-Federal Government entities).

CISA is responsible for performing coordinated Vulnerability Disclosure, which may originate outside the United States Government (USG) network/community and affect users within it or originate within the USG community and affect users outside of it. Often, therefore, the effective handling of security incidents relies on information sharing among individual users, industry, and the USG, which may be facilitated by and through CISA. A dedicated form on the CISA website will allow for external reporting of vulnerabilities that the reporting entity believes to be Known Exploited Vulnerabilities (KEV) eligible. Upon submission, CISA will evaluate the information provided, and then will add to the KEV Catalog, if all KEV requirements are met. For the digital copy of this information collection for review, please contact the POC listed above in this notice request.

CISA received one comment (which didn't speak to any of salient aspects of the information collection) during the open window period that said “I am curious to learn more about this process as my team has built the world's premier exploit and vulnerability intelligence dataset—and we do track our own known exploited vulnerabilities and are looking at methods to coordinate with CISA KEV team.” CISA replied with the following information:

“The intent of this form is to allow members of the public (vendors, researchers, essentially anyone) to propose vulnerabilities to CISA that they feel meet the CISA Known Exploited Vulnerabilities (KEV) requirements. These requirements are outlined on the CISA KEV website: https://www.cisa.gov/known-exploited-vulnerabilities. Once the user submits the form, our CISA KEV Team is notified and then we triage the information provided. If it does not meet all requirements, we then use the provided information as a starting point, and we do our own research to see if we can find additional information to meet all three requirements. If we do have all required information, we then proceed with adding the vulnerability to the CISA KEV Catalog. I [have] attached the proposed layout of the webform. While the form will not include any additional questions, the verbiage itself is subject to change based on all required approvals.”

Analysis

Agency: Cybersecurity and Infrastructure Security Agency (CISA), Department of Homeland Security (DHS).

Title: Actively exploited Vulnerability Submission Form.

OMB Number: 1670-NEW.

Frequency: Per incident on a voluntary basis.

Affected Public: State, local, Territorial, and Tribal, International, private sector partners.

Number of Respondents: 2,725.

Estimated Time per Respondent: 0.167 hours.

Total Burden Hours: 454 hours.

Total Annual Burden Cost: $37,956.

Total Government Burden Cost: $145,924.

Robert J. Costello,
Chief Information Officer, Department of Homeland Security, Cybersecurity and Infrastructure Security Agency.

[FR Doc. 2025-15888 Filed 8-19-25; 8:45 am]

BILLING CODE 9111-LF-P